DEPARTMENT OF COMMERCE

National Oceanic and Atmospheric Administration

Agency Information Collection Activities; Submission to the Office of Management and Budget (OMB) for Review and Approval; Comment Request; Processed Products Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 26, 2023 during a 60-day comment period. This notice allows for an additional 30 days for public comments.

Agency: National Oceanic and Atmospheric Administration (NOAA), Commerce.

Title: Processed Products Family of Forms.

OMB Control Number: 0648-0018.

Form Number(s): NOAA Forms 88-13, 88-13C.

Type of Request: Regular submission (extension of a current information collection).

Number of Respondents: 240.

Average Hours per Response: 30 minutes per response (0.5 hours).

Total Annual Burden Hours: 135.

Needs and Uses: This request is for extension of a currently approved information collection. This family of surveys provides necessary information on the seafood processing sector including volume of seafood products produced and their value. This data aids in gauging the industry and provides the basis for economic and scientific analyses.

Affected Public: Business or other for-profit organizations.

Frequency: Form 88-13—Annual; Form 88-13c—Monthly.

Respondent's Obligation: Mandatory for some Federal Permit holders, otherwise voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0018.

Sheleen Dumas,
Department PRA Clearance Officer, Office of the Under Secretary for Economic Affairs, Commerce Department.

[FR Doc. 2023-26674 Filed 12-4-23; 8:45 am]

BILLING CODE 3510-22-P